DEPARTMENT OF COMMERCE

Foreign-Trade Zones Board

[Order No. 1323]

Extension of Authority for Foreign-Trade Zone 151-Site 2 Findlay, Ohio

Pursuant to its authority under the Foreign-Trade Zones Act of June 18, 1934, as amended (19 U.S.C. 81a-81u), the Foreign-Trade Zones Board (the Board) adopts the following Order:

Whereas, the Findlay/Hancock County Chamber of Commerce, grantee of Foreign-Trade Zone 151, submitted an application to the Board requesting an extension of authority for FTZ 151-Site 2 in Findlay, Ohio, within the Toledo Customs port of entry (FTZ Docket 13-2003; filed 3/5/03);

Whereas, notice inviting public comment was given in the Federal Register (68 FR 12035, 3/13/03) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to extend FTZ 151-Site 2 is approved, subject to the Act and the Board's regulations, including Section 400.28, and further subject to a four-year time period (to March 31, 2008) that may be extended upon review by the Foreign-Trade Zones Board.

Signed at Washington, DC, this 24th day of March 2004.
James J. Jochum,
Assistant Secretary of Commerce for Import Administration, Alternate Chairman, Foreign-Trade Zones Board.

[FR Doc. 04-7529 Filed 4-2-04; 8:45 am]

BILLING CODE 3510-DS-P